DEPARTMENT OF STATE

[Public Notice #3523]

Overseas Security Advisory Council (OSAC) Meeting Notice; Closed Meeting

The Department of State announces a meeting of the U.S. State Department—Overseas Security Advisory Council on February 13, 14, and 15, in San Diego, California. Pursuant to Section 10(d) of the Federal Advisory Committee Act and 5 U.S.C. 552b(c)(1) and (4), it has been determined the meeting will be closed to the public. Matters relative to classified national security information as well as privileged commercial information will be discussed. The agenda will include updated committee reports, a world threat overview and a round table discussion that calls for the discussion of classified and corporate proprietary/security information as well as private sector physical and procedural security policies and protective programs at sensitive U.S. Government and private sector locations overseas.

For more information contact Marsha Thurman, Overseas Security Advisory Council, Department of State, Washington, D.C. 20522-1003, phone: 202-663-0533.

Dated: January 10, 2001.
Peter E. Bergin,
Director of the Diplomatic Security Service, Department of State.

[FR Doc. 01-1517 Filed 1-17-01; 8:45 am]

BILLING CODE 4710-24-P